DEPARTMENT OF JUSTICE

Office of Justice Programs

[OMB Number 1121-NEW]

Agency Information Collection Activities: Proposed Collection; Comments Requested

ACTION: 60-day notice of information collection under review: 2007 Survey of Law Enforcement Gang Units.

The Department of Justice (DOJ), Office of Justice Programs, Bureau of Justice Statistics, will be submitting the following information collection request to the Office of Management and Budget (OMB) for review and approval in accordance with the Paperwork Reduction Act of 1995. The proposed information collection is published to obtain comments from the public and affected agencies. Comments are encouraged and will be accepted for “sixty days” until July 30, 2007. This process is conducted in accordance with 5 CFR 1320.10.

If you have additional comments, especially on the estimated public burden or associated response time, suggestions, or need a copy of the proposed information collection instrument with instructions or additional information, please contact: Matthew Hickman, (202) 353-1631, Bureau of Justice Statistics, Office of Justice Programs, Department of Justice, 810 Seventh Street, NW., Washington, DC 20531 or Matthew.Hickman@usdoj.gov.

Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of this information:

(1) Type of Information Collection: New Collection, Survey of Law Enforcement Gang Units, 2007.

(2) The Title of the Form/Collection: 2007 Survey of Law Enforcement Gang Units.

(3) The Agency Form Number, if any, and the Applicable Component of the Department Sponsoring the Collection: The form number is LEGU-07, Bureau of Justice Statistics, Office of Justice Programs, United States Department of Justice.

(4) Affected Public Who Will be Asked or Required to Respond, as well as a Brief Abstract: All law enforcement gang units in police agencies with 100 or more officers. This nationwide information collection will identify all large law enforcement agencies (those with 100 or more officers) in which there is a specialized unit staffed with full-time personnel that focuses primarily on gang activity. Information will be gathered about the operations, workload, policies, and procedures of these gang units. The information collected will provide a comprehensive look at the way in which large law enforcement agencies are organized to respond to gang problems and the types of gang prevention tactics that are employed. Summary measures of gang activity in the agencies' jurisdictions will supply some standardized metrics with which to compare jurisdictions.

(5) An Estimate of the Total Number of Respondents and the Amount of Time Estimated for an Average Respondent to Respond: An estimated 450 law enforcement gang units will complete a 1-hour questionnaire (LEGU-07).

(6) An Estimate of the Total Public Burden (in hours) Associated with the Collection: The estimated public burden associated with this collection is 450 hours. (450 data collection forms completed by a commanding officer from each unit * one hour per form = 450 burden hours).

If additional information is required contact: Mrs. Lynn Bryant, Department Clearance Officer, United States Department of Justice, Justice Management Division, Policy and Planning Staff, Patrick Henry Building, Suite 1600, 601 D Street, NW., Washington, DC 20530.

Dated: May 22, 2007.
Lynn Bryant,
Department Clearance Officer, PRA, Department of Justice.

[FR Doc. E7-10212 Filed 5-25-07; 8:45 am]

BILLING CODE 4410-18-P